DEPARTMENT OF ENERGY

Federal Energy Regulatory Commission

[Docket No. CP21-29-000]

Gas Transmission Northwest LLC; Notice of Schedule for the Preparation of an Environmental Assessment for the Coyote Springs Compressor Station Project

On January 13, 2021, Gas Transmission Northwest LLC (GTN) filed a prior notice request pursuant to the Federal Energy Regulatory Commission's (FERC or Commission) regulations found at Title 18 of the Code of Federal Regulations, Parts 157.205 and 157.208, requesting authorization to construction the new Coyote Springs Compressor Station in Morrow County, Oregon. The proposed project is known as the Coyote Springs Compressor Station Project (Project), and GTN states it would provide operation reliability and flexibility and allow it to meet its mainline certificated capacity while still meeting its design pressure requirements.

On January 21, 2021, the FERC issued its Notice of Application for the Project. Subsequent to Commission staff's Environmental Assessment (EA) Report (issued on March 15, 2021), however, Commission staff determined that the Project could result in effects on National Register of Historic Places-eligible properties (historic properties). On October 8, 2021, GTN filed supplemental information clarifying that the Project would result in no adverse effect on historic properties, which does not meet the requirement of no effect on historic properties under the prior notice regulations (found at Title 18 of the Code of Federal Regulations, Part 157.206(3)(ii) and Appendix II). Therefore, the Project has converted to a Natural Gas Act 7(c) application. This notice identifies Commission staff's intention to prepare a supplemental EA for the Project and the planned schedule for the completion of the environmental review.

Schedule for Environmental Review

Issuance of supplemental EA—March 4, 2022

90-day Federal Authorization Decision Deadline—June 2, 2022

If a schedule change becomes necessary, additional notice will be provided so that the relevant agencies are kept informed of the Project's progress.

Project Description

GTN states that as a result of existing design pressure requirements and operational fluctuations, its existing Coyote Springs Lateral is operationally constrained. In order to alleviate delivery pressure concerns, GTN proposes to install, own, and operate the 1,586 horsepower greenfield Coyote Springs Compressor Station, in Morrow County, Oregon, on the Coyote Springs Lateral near Milepost 304.25. GTN states the new compressor station would provide operational reliability and flexibility and allow it to meet the mainline certificated design capacity and design pressure requirements.

Additional Information

In order to receive notification of the issuance of the supplemental EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP21-29), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 5, 2021.
Kimberly D. Bose,
Secretary.

[FR Doc. 2021-24656 Filed 11-10-21; 8:45 am]

BILLING CODE 6717-01-P